DEPARTMENT OF ENERGY

Federal Energy Regulatory Commission

[Docket No. RP03-347-000]

Chandeleur Pipe Line Company; Notice of Tariff Filing

April 25, 2003.

Take notice that on April 22, 2003, Chandeleur Pipe Line Company (Chandeleur) tendered for filing as part of its FERC Gas Tariff, Second Revised Volume No. 1, the following tariff sheets, to become effective July 1, 2003:

Fourth Revised Sheet No. 2

Fifth Revised Sheet No. 3

Original Sheet No. 17A

Sixth Revised Sheet No. 18

Fourth Revised Sheet No. 18A

First Revised Sheet No. 18B

Original Sheet No. 18C

Seventh Revised Sheet No. 19

Eighth Revised Sheet No. 19A

Third Revised Sheet No. 19A.01

Third Revised Sheet No. 19A.02

Original Sheet No. 19A.03

Eighth Revised Sheet No. 19B

First Revised Sheet No. 19B.01

Fifth Revised Sheet No. 19C

First Revised Sheet No. 19D

First Revised Sheet No. 32A

Fifth Revised Sheet No. 34

First Revised Sheet No. 34A

Original Sheet No. 34B

Original Sheet No. 34C

Original Sheet No. 34D

Fourth Revised Sheet No. 45

Second Revised Sheet No. 46

First Revised Sheet No. 46A

Third Revised Sheet No. 47

First Revised Sheet No. 52A

Second Revised Sheet No. 56A

Fifth Revised Sheet No. 65

Third Revised Sheet No. 65A

Third Revised Sheet No. 67A

Original Sheet No. 68A

Eighth Revised Sheet No. 69

Seventh Revised Sheet No. 69A

First Revised Sheet No. 69A.01

First Revised Sheet No. 69A.02

Third Revised Sheet No. 69B

Chandeleur asserts that the purpose of this filing is to comply with the Commission's order issued March 12, 2003, in Docket No. RM96-1-024 (Order No. 587-R).

Any person desiring to be heard or to protest said filing should file a motion to intervene or a protest with the Federal Energy Regulatory Commission, 888 First Street, NE., Washington, DC 20426, in accordance with sections 385.314 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: May 5, 2003.

Magalie R. Salas,
Secretary.

[FR Doc. 03-10773 Filed 4-30-03; 8:45 am]

BILLING CODE 6717-01-P